POSTAL SERVICE

39 CFR Part 601

Purchasing of Property and Services

AGENCY: Postal Service™.

ACTION: Final rule.

SUMMARY: The Postal Service is revising its purchasing regulations governing contract claims and disputes to modify and clarify the language concerning the right of appeal which must be included in the contracting officer's final decision with regard to a contract claim or dispute.

DATES: Effective: May 11, 2016.

ADDRESSES: Written inquiries may be addressed to Supply Management Infrastructure, USPS, Room 1141, 475 L'Enfant Plaza SW., Washington, DC 20260.

FOR FURTHER INFORMATION CONTACT: Shelita V. Taylor, 202-268-4327.

SUPPLEMENTARY INFORMATION: This document revises paragraph (g)(7) of 39 CFR 601.109, Contract claims and disputes. As revised, § 601.109(g)(7) will ensure that the contracting officer's final decision regarding a contract claim or dispute contains language that fully and accurately advises the contractor of the right and process to appeal that final decision to the Postal Service Board of Contract Appeals. As revised, this paragraph mandates that a supplier or other contractor must file a notice of appeal within ninety days from the date the contracting officer's final decision letter is received. This document also corrects the address of the USPS Judicial Officer Department's Electronic Filing System Web site.

List of Subjects in 39 CFR Part 601

Government procurement.

Accordingly, for the reasons stated, 39 CFR part 601 is amended as follows:

PART 601—PURCHASING OF PROPERTY AND SERVICES

1. The authority citation for 39 CFR part 601 continues to read as follows:

Authority: 39 U.S.C. 401, 404, 410, 411, 2008, 5001-5605.

2. In § 601.109, revise paragraph (g)(7) to read as follows:

§ 601.109 Contract claims and disputes.

* * * * *

(g) * * *

(7) Wording of decisions. The contracting officer's final decision must contain the following paragraph: “This is the final decision of the contracting officer pursuant to the Contract Disputes Act of 1978 and the clause of your contract entitled Claims and Disputes. You may appeal this decision to the Postal Service Board of Contract Appeals by filing a notice of appeal within ninety days from the date you receive this decision. You may file the notice of appeal online through the USPS Judicial Officer Department's Electronic Filing System Web site located at https://uspsjoe.justware.com/JusticeWeb, or by mailing or otherwise furnishing the notice of appeal to the Postal Service Board of Contract Appeals. You also may appeal by mailing, or otherwise furnishing written notice of appeal to the contracting officer within ninety days from the date you receive this decision. The notice should identify the contract by number, reference this decision, and indicate that an appeal is intended. Alternatively, you may bring an action directly in the United States Court of Federal Claims within twelve months from the date you receive this decision.”

* * * * *

Stanley F. Mires,
Attorney, Federal Compliance.

[FR Doc. 2016-11043 Filed 5-10-16; 8:45 am]

BILLING CODE 7710-12-P